DEPARTMENT OF ENERGY

Federal Energy Regulatory Commission

[Project No. 12807-001]

BPUS Generation Development, LLC; Notice of Preliminary Permit Application Accepted for Filing and Soliciting Comments, Motions To Intervene, and Competing Applications

November 10, 2010.

On October 4, 2010, BPUS Generation Development, LLC filed an application for a preliminary permit, pursuant to section 4(f) of the Federal Power Act (FPA), proposing to study the feasibility of the Mulqueeney Ranch Pumped Storage Project to be located on property known as Mulqueeney Ranch, near the City of Tracy, in Alameda County, California.

The sole purpose of a preliminary permit, if issued, is to grant the permit holder priority to file a license application during the permit term. A preliminary permit does not authorize the permit holder to perform any land-disturbing activities or otherwise enter upon lands or waters owned by others without the owners' express permission.

The project would consist of the following: (1) A proposed upper impoundment having a surface area of about 52 acres and a normal water surface elevation of 1,640 feet mean sea level; (2) a proposed lower impoundment having a surface area of about 40 acres and a normal surface area of 940 feet mean sea level; (3) a proposed waterway connecting the upper impoundment to the lower impoundment; (4) a proposed powerhouse containing two generator units with a total installed capacity of 280 megawatts; (5) a proposed 1.75-mile-long, 230- or 500-kilovolt transmission line; and (6) appurtenant facilities. The proposed project would have an estimated annual generation of about 368 gigawatt-hours (GWh) and a pumping energy requirement of about 472 GWh. The applicant plans to sell the generated energy to a local utility.

Applicant Contact: Michael Cutter, Vice President Engineering and Development, Brookfield Renewable Power, Inc., 200 Donald Lynch Blvd., Suite 300, Marlborough, MA 01752.

FERC Contact: Jim Fargo (202) 502-6095.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-12807) in the docket number field to access the document. For assistance, contact FERC Online Support.

Kimberly D. Bose,
Secretary.

[FR Doc. 2010-29061 Filed 11-17-10; 8:45 am]

BILLING CODE 6717-01-P